DEPARTMENT OF ENERGY

Federal Energy Regulatory Commission

[Docket Nos. IS14-607-000, et al.]

Zydeco Pipeline Company, LLC; Notice of Informal Settlement Conference

Take notice that an informal settlement conference will be convened in this proceeding commencing at 10:00 a.m. on June 22, 2015, at the offices of the Federal Energy Regulatory Commission, 888 1st, NE., Washington, DC 20426, for the purpose of exploring the possible settlement of the above-referenced case.

Any party, as defined by 18 CFR 385.102(c), or any participant as defined by 18 CFR 385.102(b), is invited to attend. Persons wishing to become a party must move to intervene and receive intervenor status pursuant to the Commission's regulations (18 CFR 385.214).

FERC conferences are accessible under section 508 of the Rehabilitation Act of 1973. For accessibility accommodations please send an email to accessibility@ferc.gov or call toll free 1-866-208-3372 (voice) or 202-502-8659 (TTY), or send a FAX to 202-208-2106 with the required accommodations.

For additional information, please contact Joel Cockrell Joel.Cockrell@ferc.gov 202-502-8153 or Nicolas McTyre Nicolas.McTyre@ferc.gov 202-502-8356.

Dated: June 10, 2015.
Kimberly D. Bose,
Secretary.

[FR Doc. 2015-14747 Filed 6-15-15; 8:45 am]

BILLING CODE 6717-01-P